DEPARTMENT OF TRANSPORTATION

Federal Highway Administration

Notice of Final Federal Agency Actions on Proposed Highway Projects in Texas

AGENCY: Federal Highway Administration (FHWA), DOT.

ACTION: Notice of limitation on claims for judicial review.

SUMMARY: The FHWA, on behalf of the Texas Department of Transportation (TxDOT), is issuing this notice to announce actions taken by TxDOT and other Federal agencies that are final agency actions. The actions relate to various proposed highway projects in the State of Texas. These actions grant licenses, permits, and approvals for the projects.

DATES: By this notice, the FHWA, on behalf of TxDOT, is advising the public of final agency actions subject to 23 U.S.C. 139(l)(1). A claim seeking judicial review of the Federal Agency actions on the highway projects listed below will be barred unless the claim is filed on or before March 2, 2026. If the Federal law that authorizes judicial review of a claim provides a time period of less than 150 days for filing such a claim, then that shorter time period still applies.

FOR FURTHER INFORMATION CONTACT: Patrick Lee, Environmental Affairs Division, Texas Department of Transportation, 125 East 11th Street, Austin, Texas 78701; telephone: (512) 419-8604; email: Patrick.Lee@txdot.gov. TxDOT's normal business hours are 8 a.m. to 5 p.m. (Central Standard Time), Monday through Friday, except State holidays.

SUPPLEMENTARY INFORMATION: The environmental review, consultation, and other actions required by applicable Federal environmental laws for these projects are being, or have been, carried out by TxDOT pursuant to 23 U.S.C. 327 and a Memorandum of Understanding dated December 9, 2019, and executed by the FHWA and TxDOT.

Notice is hereby given that TxDOT and Federal agencies have taken final agency actions by issuing licenses, permits, and approvals for the highway projects in the State of Texas that are listed below.

The actions by TxDOT and Federal agencies and the laws under which such actions were taken are described in the Categorical Exclusion (CE), Environmental Assessment (EA), or Environmental Impact Statement (EIS) issued in connection with the projects and in other key project documents. The CE, EA, or EIS and other key documents for the listed projects are available by contacting the local TxDOT office at the address or telephone number provided for each project below.

This notice applies to all TxDOT and Federal agency decisions as of the issuance date of this notice and all laws under which such actions were taken, including but not limited to:

1. General: National Environmental Policy Act (NEPA) [42 U.S.C. 4321 et seq.]; Federal-Aid Highway Act [23 U.S.C. 109 and 23 U.S.C. 128]; 23 CFR part 771.

2. Air: Clean Air Act [42 U.S.C. 7401-7671(q)].

3. Noise: Noise Control Act of 1972 [42 U.S.C. 4901-4918]; 23 CFR part 772.

4. Land: Section 4(f) of the Department of Transportation Act of 1966 [23 U.S.C. 138 and 49 U.S.C. 303]; 23 CFR part 774; Land and Water Conservation Fund (LWCF) [54 U.S.C. 200302-200310]; Landscaping and Scenic Enhancement (Wildflowers) [23 U.S.C. 319].

5. Wildlife: Endangered Species Act [16 U.S.C. 1531-1544 and 1536], Marine Mammal Protection Act [16 U.S.C. 1361-1423h]; Anadromous Fish Conservation Act [16 U.S.C. 757(a)-757(f)]; Fish and Wildlife Coordination Act [16 U.S.C. 661-667(d)]; Migratory Bird Treaty Act [16 U.S.C. 703-712]; Magnuson-Stevenson Fishery Conservation and Management Act of 1976, as amended [16 U.S.C. 1801-1891d], with Essential Fish Habitat requirements [16 U.S.C. 1855(b)(2)].

6. Historic and Cultural Resources: Section 106 of the National Historic Preservation Act of 1966, as amended [54 U.S.C. 300101 et seq.]; Archaeological Resources Protection Act of 1979 (ARPA) [16 U.S.C. 470(aa)-470(II)]; Preservation of Historical and Archaeological Data [54 U.S.C. 312501-312508]; Native American Grave Protection and Repatriation Act (NAGPRA) [25 U.S.C. 3001-3013; 18 U.S.C. 1170].

7. Social and Economic: Civil Rights Act of 1964 [42 U.S.C. 2000(d)-2000(d)(1)]; American Indian Religious Freedom Act [42 U.S.C. 1996]; Farmland Protection Policy Act (FPPA) [7 U.S.C. 4201-4209].

8. Wetlands and Water Resources: Clean Water Act [33 U.S.C. 1251-1377] (Section 404, Section 401, Section 319); Coastal Barriers Resources Act (CBRA) [16 U.S.C. 3501-3510]; Coastal Zone Management Act (CZMA) [16 U.S.C. 1451-1466]; Safe Drinking Water Act (SDWA) [42 U.S.C. 300f-300j—26]; Rivers and Harbors Act of 1899 [33 U.S.C. 401-406]; Wild and Scenic Rivers Act [16 U.S.C. 1271-1287]; Emergency Wetlands Resources Act [16 U.S.C. 3921, 3931]; Wetlands Mitigation, [23 U.S.C. 119(g) and 133(b)(3)]; Flood Disaster Protection Act [42 U.S.C. 4001-4130].

9. Hazardous Materials: Comprehensive Environmental Response, Compensation, and Liability Act (CERCLA) [42 U.S.C. 9601-9675]; Superfund Amendments and Reauthorization Act of 1986 (SARA); Resource Conservation and Recovery Act (RCRA) [42 U.S.C. 6901-6992(k)].

10. Executive Orders: E.O. 11990 Protection of Wetlands; E.O. 11988 Floodplain Management; E.O. 11593 Protection and Enhancement of Cultural Resources; E.O. 13007 Indian Sacred Sites; E.O. 13287 Preserve America; E.O. 13175 Consultation and Coordination with Indian Tribal Governments; E.O. 13112 Invasive Species.

The projects subject to this notice are:

1. Rudeloff Road from Huber Road to SH 123, Guadalupe County, Texas. The project will construct an extension of Rudeloff Road from its existing terminus at Huber Road to SH 123. The facility will be a four-lane, divided, non-controlled access roadway with a separated median and shared use path. The project is 1.6 miles long. The actions by TxDOT and Federal agencies and the laws under which such actions were taken are described in the Categorical Exclusion Determination issued on June 9, 2025, and other documents in the TxDOT project file. The Categorical Exclusion Determination and other documents in the TxDOT project file are available by contacting the TxDOT San Antonio District Office at 4615 NW Loop 410, San Antonio, TX 78229; telephone: (210) 615-5839.

2. Great Southwest Parkway from westbound IH 20 frontage road to eastbound IH 20 frontage road, Tarrant County, Texas. The project will consist of improvements along Great Southwest Parkway in Tarrant County, Texas, from south of the eastbound IH 20 frontage road to north of the westbound IH 20 frontage road, approximately 0.30 miles. The project will widen Great Southwest Parkway to add a 12-foot-wide lane in each direction. Intersections along the project will be modified to accommodate the added lane. The project will also construct 6-foot-wide sidewalks along the roadway north of the westbound frontage road and south of the eastbound frontage road and shared-use paths ranging from 10- to 16-foot wide along Great Southwest Parkway between the frontage roads. The actions by TxDOT and Federal agencies and the laws under which such actions were taken are described in the Categorical Exclusion Determination issued on June 11, 2025, and other documents in the TxDOT project file. The Categorical Exclusion Determination and other documents in the TxDOT project file are available by contacting the TxDOT Fort Worth District Office at 2501 S W Loop 820, Fort Worth, TX 76133; telephone: (817) 370-6744.

3. Spur 394 From IH 35 to FM 877, Ellis County, Texas. The project will construct a new roadway that will include four 12-foot wide lanes (two in each direction) divided by a 34-foot median. This project is approximately 1.7 miles in length. The actions by TxDOT and Federal agencies and the laws under which such actions were taken are described in the Categorical Exclusion Determination issued on June 23, 2025, and other documents in the TxDOT project file. The Categorical Exclusion Determination and other documents in the TxDOT project file are available by contacting the TxDOT Dallas District Office at 4777 E Highway 80, Mesquite, TX 75150; telephone: (214) 320-4480.

4. IH 30 from Ferguson Road to Bass Pro Drive, Dallas County, Texas. The project will widen the roadway to include three to six general purpose lanes in each direction, one to two reversible managed lanes, continuous two to three lane frontage roads in each direction, and reconstruction of ramps and bridge structures. This project is approximately 12 miles in length. The actions by TxDOT and Federal agencies and the laws under which such actions were taken are described in the Categorical Exclusion Determination issued on June 23, 2025, and other documents in the TxDOT project file. The Categorical Exclusion Determination and other documents in the TxDOT project file are available by contacting the TxDOT Dallas District Office at 4777 E Highway 80, Mesquite, TX 75150; telephone: (214) 320-4480.

5. Veloweb Trail Mike Lewis Park from the High River Road and Trinity Boulevard Intersection to Mike Lewis Park, Tarrant and Dallas Counties, Texas. The project will construct a multi-use concrete trail along Trinity Boulevard and Roy Orr Boulevard from the intersection of High River Road and Trinity Boulevard to Mike Lewis Park in the City of Grand Prairie. The project will include the construction of a multi-use, concrete-paved trail with at least a 5-foot offset from the edge of curb and a 2-foot-wide shoulder. The trail will begin at the High River Road and Trinity Boulevard intersection and continue along the west side of Trinity Boulevard for approximately 0.7 mile until its intersection with Roy Orr Boulevard. From there, the trail will turn south along the west side of Roy Orr Boulevard and continue for approximately 0.6 mile before crossing over to the east side of Roy Orr Boulevard, just south of the Oakdale Road and Roy Orr Boulevard intersection. The trail will continue south along the east side of Roy Orr Boulevard for approximately 0.4 mile until the southern project terminus, located approximately 60 feet north of Glacier Park Lane. The project will also include a 12-foot-wide pedestrian truss bridge for the trail crossing of the West Fork Trinity River and a connection to the existing trail within Mike Lewis Park. The trail will be approximately 1.8 miles long. The actions by TxDOT and Federal agencies and the laws under which such actions were taken are described in the Categorical Exclusion Determination issued on June 24, 2025, and other documents in the TxDOT project file. The Categorical Exclusion Determination and other documents in the TxDOT project file are available by contacting the TxDOT Fort Worth District Office at 2501 S W Loop 820, Fort Worth, TX 76133: telephone: (817) 370-6744.

6. Pecos East Relief Route, from US 285 north of Pecos to US 285 south of Pecos, Reeves County, Texas. The project will construct a relief route on the east side of Pecos. The south limit of the project will be located south of Pecos on US 285 approximately two miles south of FM 1450 and the north limit will be located north of Pecos on US 285 approximately one mile south of CR 402. The facility will consist of a four-lane divided highway with two 12-foot travel lanes in each direction, and two-lane, one-way frontage roads in each direction. Overpasses will be constructed at FM 1450, IH 20, BI-20/UPRR Crossing and FM 1216. The project length is approximately 9.9 miles. The actions by TxDOT and Federal agencies and the laws under which such actions were taken are described in the Categorical Exclusion Determination issued on June 30, 2025, and other documents in the TxDOT project file. The Categorical Exclusion Determination and other documents in the TxDOT project file are available by contacting the TxDOT Odessa District Office at 3901 E Highway 80, Odessa, TX 79761; telephone: (432) 498-4697.

7. Blanco Road from Borgfeld Drive to the Bexar/Comal County Line, Bexar County, Texas. The project will widen the road from two to four lanes with a combination of a two-way center turn lane, dedicated left-turn lanes, dedicated right-turn lanes and a grassy center median. A sidewalk along the eastern side of the roadway and a bike lane in each direction will be provided. The project is approximately 2.5 miles long. The actions by TxDOT and Federal agencies and the laws under which such actions were taken are described in the Categorical Exclusion Determination issued on June 30, 2025, and other documents in the TxDOT project file. The Categorical Exclusion Determination and other documents in the TxDOT project file are available by contacting the TxDOT San Antonio District Office at 4615 NW Loop 410, San Antonio, TX 78229; telephone: (210) 615-5839.

8. FM 551 from SH 276 to SH 66, Rockwall County, Texas. The project will widen FM 551 for approximately 3.25 miles, from SH 276 to SH 66 within the City of Fate. From SH 276 to Black Oak Lane, FM 551 will be widened from a two-lane undivided roadway to a four-lane divided roadway. From Black Oak Lane to SH 66, the project will add a 14-foot wide continuous center turn lane between the two 12-foot wide travel lanes. In addition, a 10-foot wide shared use path is proposed along the entire project limits of FM 551. The actions by TxDOT and Federal agencies and the laws under which such actions were taken are described in the Categorical Exclusion Determination issued on July 22, 2025, and other documents in the TxDOT project file. The Categorical Exclusion Determination and other documents in the TxDOT project file are available by contacting the TxDOT Dallas District Office at 4777 E Highway 80, Mesquite, TX 75150; telephone: (214) 320-6200.

9. US 90 from FM 563 to SH 61, Liberty County, Texas. The project will provide a four-lane highway between Liberty and Devers and a shared use path (SUP) in Liberty and Ames. The project will extend for approximately 11.37 miles from FM 563 in Liberty to SH 61 in Devers. The roadway will generally have two 12-foot-wide travel lanes in each direction with 4- to 10-foot-wide shoulders. Directions of travel will be separated by a median and left- and right-turn lanes will be present throughout the corridor with corresponding median breaks. A 10-foot-wide shared use path is proposed along the south side of US 90 between the western project limit and Tip Top Road, through Liberty and Ames, which will include crosswalks at road intersections as needed. The actions by TxDOT and Federal agencies and the laws under which such actions were taken are described in the final EA, Finding of No Significant Impact (FONSI) issued on July 8, 2025, and other documents in the TxDOT project file. The EA, FONSI and other documents in the TxDOT project file are available by contacting the TxDOT Beaumont District Office at 100 8350 Eastex Freeway, Beaumont, TX 77708; telephone: (409) 898-5745.

(Catalog of Federal Domestic Assistance Program Number 20.205, Highway Planning and Construction. The regulations implementing Executive Order 12372 regarding intergovernmental consultation on Federal programs and activities apply to this program.)

(Authority: 23 U.S.C. 139(l)(1)).

Ed Burgos-Gomez,
Acting Director Program Development, Federal Highway Administration.

[FR Doc. 2025-19246 Filed 10-1-25; 8:45 am]

BILLING CODE 4910-RY-P